DEPARTMENT OF THE INTERIOR

Bureau of Land Management

[ES-020-1320-EL]

Notice of Intent To Prepare a Land Use Analysis/Environmental Assessment

AGENCY: Bureau of Land Management; Interior.

ACTION: Notice of Intent to Prepare a Land Use Analysis/Environmental Assessment.

SUMMARY: A Land Use Analysis/Environmental Assessment (LUA/EA) is being prepared to consider leasing Federal coal in response to lease application KYES-50213. The 315.13-acre application area in Clay County, Kentucky is managed by the Daniel Boone National Forest. The LUA/EA will be a cooperative effort among the Bureau of Land Management, the Forest Service and the Office of Surface Mining. This notice is issued pursuant to 40 CFR 1501.7 and 43 CFR 1610.2(c).

The planning effort will follow the procedures set forth in 43 CFR part 1600. As provided at 43 CFR 3420, information and data pertaining to the coal deposits or other resources, which potentially may be affected by development of the coal, are requested. Additionally, the public is invited to participate in this planning process, beginning with the identification of planning issues and criteria.

DATES: Input will be accepted for 30 days from the date of this publication. Individual respondents may request confidentiality. If you wish to withhold your name or street address from public review or from disclosure under the Freedom of Information Act, you must state this prominently at the beginning of your written comments. Such requests will be honored to the extent allowed by the law. All submissions from organizations and businesses, and from individuals identifying themselves as representatives or officials of organizations or businesses, will be available for public inspection in their entirety.

ADDRESSES: Comments should be sent to the Bureau of Land Management, Jackson Field Office, 411 Briarwood Drive, Suite 404, Jackson, MS 39206-3039.

FOR FURTHER INFORMATION CONTACT: John A. Lewis, Lead for LUA/EA, Jackson Field Office at 601-977-5400.

SUPPLEMENTARY INFORMATION: The coal lease application was filed by southfork Coal Company to supplement their existing private and other federal reserves currently under lease. The reserves would be mined by underground methods from a portal area on private surface and mineral estates. A permit (No. 875-5008) has been issued by the State of Kentucky for this 14.47-acre portal area located 0.8 miles from the intersection of County Highway 92 and the Whitney/McCreary County line.

The BLM has responsibility to address coal lease applications on federal mineral estate. The Forest Service has the responsibility to consider consenting to lease Federal coal underlying Forest Service managed surface lands. The Office of Surface Mining provides recommendations the Secretary of Interior regarding approval of mining plans. An interdisciplinary team from these three agencies will be used in the preparation of the LUA/EA. Preliminary issues, subject to change as a result of public input, are (1) potential impacts of coal exploration and development on the surface and subsurface resources and (2) consideration of restrictions on lease rights to protect surface resources and uses by the Forest Service.

Due to the limited scope of this LUA/EA process, a public meeting is not scheduled during this scoping stage; however, a public hearing will be conducted, in accordance with 43 CFR 3420 and 1600, upon the completion of the LUA/EA.

Bruce E. Dawson,
Field Manager, Jackson Field Office.

[FR Doc. 02-4147 Filed 2-20-02; 8:45 am]

BILLING CODE 4310-GJ-P